DEPARTMENT OF HOMELAND SECURITY

Coast Guard

33 CFR Part 117

[Docket No. USCG-2018-0825]

Drawbridge Operation Regulation; Okeechobee Waterway (Caloosahatchee River), LaBelle, FL

AGENCY: Coast Guard, DHS.

ACTION: Notice of deviation from drawbridge regulation.

SUMMARY: The Coast Guard has issued a temporary deviation from the operating schedule that governs the Caloosahatchee River (SR 29/LaBelle) Bridge across the Okeechobee Waterway (Caloosahatchee River), mile 103, at LaBelle, FL. The deviation is necessary to accommodate repairs to the bridge. This deviation allows the bridge single-leaf openings with advanced notice for a double-leaf opening.

DATES: This deviation is effective without actual notice from November 21, 2018 through 6 a.m. on December 31, 2018. For the purposes of enforcement, actual notice will be used from 6 a.m. on August 13, 2018, until November 21, 2018.

ADDRESSES: The docket for this deviation, USCG-2018-0825 is available at http://www.regulations.gov. Type the docket number in the “SEARCH” box and click “SEARCH”. Click on Open Docket Folder on the line associated with this deviation.

FOR FURTHER INFORMATION CONTACT: If you have questions on this temporary deviation, call or email MST1 Deborah A. Schneller, Coast Guard Sector Saint Petersburg Waterways Management Division; telephone (813) 228-2194 x 8133, email Deborah.A.Schneller@uscg.mil.

SUPPLEMENTARY INFORMATION: Seacoast Inc., on behalf of the bridge owner, Florida Department of Transportation (FDOT), has requested a temporary deviation from the current operating regulation that governs the Caloosahatchee River (SR29/LaBelle) Bridge across the Okeechobee Waterway (Caloosahatchee River), mile 103, at LaBelle, FL. The deviation is necessary to facilitate necessary repairs to the structural integrity of the bridge. The existing bridge is a double-leaf bascule bridge with at vertical clearance in the closed to navigation position of 28 feet under normal water level conditions on the Okeechobee Waterway.

The current operating schedule is set out in 33 CFR 117.317(i)(j). Under this temporary deviation, the bridge will provide single-leaf openings utilizing the current operating schedule. Request for a double-leaf opening requires advance notice by contacting the bridge tender at (813) 228-2191 at least four hours in advance. The vertical clearance of the bridge will be reduced to 26 feet under normal water level conditions on the Okeechobee Waterway to allow for post tensioning of the existing steel floor beams. The Okeechobee Waterway (Caloosahatchee River) is used by a variety of vessels including U.S. government vessels, small commercial vessels, recreational vessels and tugs and barge traffic. The Coast Guard has carefully considered the restrictions with waterway users in publishing this temporary deviation.

Vessels able to pass through the bridge in the closed position may do so at any time. The bridge will not be able to provide a double-leaf opening for emergencies and there is no immediate alternate route for vessels to pass. The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: November 15, 2018.
Barry L. Dragon,
Director, Bridge Branch, Seventh Coast Guard District.

[FR Doc. 2018-25332 Filed 11-20-18; 8:45 am]

BILLING CODE 9110-04-P